FEDERAL COMMUNICATIONS COMMISSION

47 CFR Part 73

[DA 06-266; MB Docket No. 05-120, RM-11194]

Radio Broadcasting Services; Prospect, KY and Salem, IN

AGENCY: Federal Communications Commission.

ACTION: Final rule.

SUMMARY: The Audio Division, at the request of Clear Channel Broadcasting Licenses, Inc., licensee of Station WZKF(FM), Channel 255B, Salem, Indiana, deletes Channel 255B at Salem, Indiana, from the FM Table of Allotments, allots Channel 255B at Prospect, Kentucky, as the community's first local FM service, and modifies the license of Station WZKF(FM) to specify operation on Channel 255B at Prospect, Kentucky. Channel 255B can be allotted to Prospect, Kentucky, in compliance with the Commission's minimum distance separation requirements with a site restriction of 21.4 km (13.0 miles) northwest of Prospect. The coordinates for Channel 255B at Prospect, Kentucky, are 38-25-59 North Latitude and 85-50-01 West Longitude.

DATES: Effective March 23, 2006.

FOR FURTHER INFORMATION CONTACT: Deborah Dupont, Media Bureau, (202) 418-2180.

SUPPLEMENTARY INFORMATION: This is a synopsis of the Commission's Report and Order, MB Docket No. 05-120, adopted February 2, 2006, and released February 6, 2006. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC, 20554, (800) 378-3160, or via the company's Web site, http://www.bcpiweb.com. The Commission will send a copy of this Report and Order in a report to be sent to Congress and the Government Accountability Office pursuant to the Congressional Review Act, see U.S.C. 801(a)(1)(A).

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under section 73.202(b), the Table of FM Allotments under Kentucky, is amended by adding Prospect, Channel 255B.

Federal Communications Commission.
John A. Karousos,
Assistant Chief, Audio Division, Media Bureau.

[FR Doc. 06-1525 Filed 2-21-06; 8:45 am]

BILLING CODE 6712-01-P